DEPARTMENT OF ENERGY

Federal Energy Regulatory Commission

[Docket No. CP04-37-000, CP04-44-000, CP04-45-000, and CP04-46-000]

Corpus Christi LNG, L.P. and Cheniere Corpus Christi Pipeline Company; Notice of Intent To Prepare an Environmental Impact Statement for the Proposed Cheniere Corpus Christi Lng Terminal and Pipeline Project, Request for Comments on Environmental Issues, and Notice of Public Scoping Meetings and Site Visit

February 20, 2004.

The staff of the Federal Energy Regulatory Commission (FERC or Commission) will prepare an environmental impact statement (EIS) that will discuss the environmental impacts of the Cheniere Corpus Christi LNG Terminal and Pipeline Project involving construction and operation of facilities by Corpus Christi LNG, L.P. and Cheniere Corpus Christi Pipeline Company (collectively referred to as Cheniere Corpus Christi) in San Patricio and Nueces Counties, Texas.¹ These facilities would consist of a liquefied natural gas (LNG) import terminal and storage facilities, and 24 miles of 48-inch-diameter pipeline. This EIS will be used by the Commission in its decision-making process to determine whether the project is in the public convenience and necessity.

¹ On December 22, 2003, Corpus Christi LNG, L.P. filed its application with the Commission under Section 3(a) of the Natural Gas Act (NGA) and Part 153 of the Commission's regulations, and Cheniere Corpus Christi Pipeline Company filed its application under Section 7 of the NGA and Parts 157 and 284 of the Commission's regulations.

This notice is being sent to residents within 0.5 mile of the proposed LNG terminal; landowners along the proposed pipeline route; Federal, state, and local government representatives and agencies; environmental and public interest groups; Native American tribes; local libraries and newspapers; and intervenors in this proceeding. We ² request that state and local government representatives notify their constituents of this proposed action and encourage them to comment on their areas of concern.

² “We,” “us,” and “our” refer to the environmental staff of the FERC's Office of Energy Projects (OEP).

If you are a landowner receiving this notice, you may be contacted by a company representative about the acquisition of an easement to construct, operate, and maintain the proposed facilities. The company would seek to negotiate a mutually acceptable agreement. However, if the project is approved by the Commission, that approval conveys with it the right of eminent domain. Therefore, if easement negotiations fail to produce an agreement, the company could initiate condemnation proceedings in accordance with state law.

A fact sheet prepared by the FERC entitled “An Interstate Natural Gas Facility On My Land? What Do I Need To Know?” was attached to the project notice Cheniere Corpus Christi provided to landowners. This fact sheet addresses a number of typically asked questions, including the use of eminent domain and how to participate in the Commission's proceedings. It is available for viewing on the FERC Internet Web site (http://www.ferc.gov).

Summary of the Proposed Project

Cheniere Corpus Christi proposes to import, store, and vaporize on average about 2,600 million cubic feet per day of LNG at its terminal facility on the northern shoreline of Corpus Christi Bay, east of Portland, Texas. The proposed pipeline, extending from the LNG terminal to north of Sinton, Texas, would be capable of transporting about 2,700 million cubic feet per day of imported natural gas to markets throughout the United States, via interconnections with a number of existing interstate pipeline systems. Cheniere Corpus Christi seeks authority to construct and operate:

• A new marine basin at the northwestern end of the existing La Qunita Channel, consisting of a dredged maneuvering area and two protected berths, equipped to unload up to 300 LNG ships per year, including three tugs and two line-handling boats;

• Three liquid unloading arms, one vapor return arm, and two LNG transfer lines for each dock;

• Three all-metal, double-walled, single containment, top entry LNG storage tanks, each with a nominal working volume of approximately 160,000 cubic meters (1,006,400 barrels equivalent), surrounded by earthen dikes capable of containing 110 percent of the gross tank volume;

• Three in-tank LNG pumps, an LNG vaporization and send out system consisting of 16 high pressure LNG send out pumps, 16 high pressure submerged combustion LNG vaporizers, three boil-off gas compressors and a boil-off gas condensing system, and two vapor return blowers, together with LNG terminal control instrumentation and safety systems, and on-site natural gas metering facilities;

• Various buildings at the LNG terminal site to house administrative offices, warehouse/maintenance, terminal control system, utilities, customs, and a gatehouse;

• 24 miles of 48-inch-diameter natural gas pipeline;

• Seven metering stations/delivery points, and pipeline interconnections with the following existing natural gas pipeline systems: Texas Eastern Transmission Company, Gulf South Pipeline Company, Channel Pipeline Company, Florida Gas Transmission Company, Kinder Morgan Texas Pipeline Company, Transcontinental Gas Pipeline Corporation, and Natural Gas Pipeline Company of America; and

• Three mainline valves, and a pig launcher facility at the LNG terminal and receiver facility at the northern pipeline terminus.

Construction of the proposed LNG terminal would also require construction of nonjurisdictional facilities, consisting of about 1.6 miles of new 138 kV overhead electric power line and an electrical substation and about 1.6 miles of new potable water line. These facilities are not under jurisdiction of the Commission but they will be addressed in the EIS as related nonjurisdictional facilities.

Cheniere Corpus Christi would like to have the project constructed and operational prior to the 2007 winter heating season. The general location of the facilities is shown in appendix 1.³

³ The appendices referenced in this notice are not being printed in the Federal Register. Copies of all appendices, other than appendix 1 (maps), are available on the Commission's Web site at the “eLibrary” link or from the Commission's Public Reference, Room 2A or call (202) 502-8371. For instructions on connecting to eLibrary refer to the last page of this notice. Copies of the appendices were sent to all those receiving this notice in the mail. Requests for detailed maps of the proposed facilities should be made directly to the Cheniere Corpus Christi.

Land Requirements for Construction

Construction of the proposed LNG terminal would utilize a total of about 1,078 acres of land and water. On-shore, permanent operation of the terminal would require use of about 187 acres. About 494 acres on-shore would be affected temporarily during construction. An additional 316 acres on-shore would be retained for exclusion zones, but would not be affected by either construction or operations of the facility. Off-shore, about 81 acres of open water would be used for construction and operation of the marine basin and berthing facilities. The material dredged during creation of the marine basin would be placed over existing bauxite residue beds and tailings ponds on a 385 acre area owned by Alcoa, Inc., on the north side of the LNG storage facility.

Construction of the proposed pipeline would affect a total of about 390 acres of land. A 120-foot-wide nominal construction right-of-way would be used, plus additional temporary extra work spaces, and the permanent pipeline easement would be 50-feet-wide. Operation would require use of about 166 acres, including about 4 acres necessary for aboveground facilities. At the end of construction, the remaining 224 acres of land along the pipeline route would be restored to its previous condition and use.

The EIS Process

The National Environmental Policy Act (NEPA) requires the Commission to take into account the environmental impacts that could result from an action whenever it considers the issuance of a Certificate of Public Convenience and Necessity. NEPA also requires the Commission to discover and address concerns the public may have about proposals. This process is referred to as “scoping.” The main goal of the scoping process is to focus the analysis in the EIS on the important environmental issues and reasonable alternatives.

With this notice, we are soliciting input from the public and interested agencies to help us focus the analysis in the EIS on the potentially significant environmental issues related to the proposed action. To ensure that your scoping comments are considered, please carefully follow the instructions in the public participation section beginning on page 6.

We are also asking Federal, state, local, and tribal agencies with jurisdiction and/or special expertise with respect to the environmental issues to formally cooperate with us in the preparation of the EIS. These agencies, especially the U.S. Army Corps of Engineers, U.S. Coast Guard, U.S. Fish and Wildlife Service, and the National Marine Fisheries Service, may choose to participate once they have evaluated the proposal relative to their responsibilities.

Our independent analysis of the proposed project will be included in a draft EIS. The draft EIS will be published and mailed to Federal, state, and local agencies, public interest groups, interested individuals, affected landowners, Native American tribes, newspapers, libraries, and the Commission's official service list for this proceeding. A 45-day comment period will be allotted for review of the draft EIS. We will consider all timely comments on the draft EIS and revise the document, as necessary, before issuing the final EIS. In addition, we will consider all comments on the final EIS when we make our recommendations to the Commission.

Currently Identified Environmental Issues

The EIS will discuss impacts that could occur as a result of the construction and operation of the proposed project under the general resource headings listed below. We have already identified several issues that we think deserve attention based on a preliminary review of the proposed facilities and the environmental information provided by Cheniere Corpus Christi. This preliminary list of issues may be changed based on your comments and our analysis.

• Geology and Soils:

—Assessment of dredging for the new marine basin, and use of dredged material to cover existing bauxite residue beds and tailings ponds at LNG terminal site.

—Location of LNG storage tanks within an area used for bauxite storage.

—Conversion of prime farm land for aboveground facilities associated with the pipeline.

• Water Resources and Wetlands:

—Handling of storm water captured in LNG storage dikes, and water generated during LNG vaporization process.

—Assessment of impacts construction and operation of the LNG terminal and pipeline would have on wetlands.

—Potential impacts on surface waterbodies.

• Vegetation and Wildlife:

—Impacts of clearing of native vegetation at the LNG terminal and along pipeline.

—Assessment of impacts on state and/or Federally-listed threatened and endangered species at the LNG terminal and along the pipeline.

—Assessment of impacts the creation of the LNG marine terminal may have on shellfish and finfish within the essential fish habitat of Corpus Christi Bay.

• Land Use and Recreation:

—Evaluation of project's consistency with coastal zone management area guidelines.

—Assessment of impacts on agricultural land crossed by the pipeline.

—Visual impacts associated with new LNG storage tanks.

• Socioeconomics:

—Assessment of environmental justice in location of LNG terminal site.

—Assessment of impact and potential benefits of construction workforce on local housing, infrastructure, public services, and economy.

—Assessment of impacts of LNG ship traffic on the Port of Corpus Christi.

• Cultural Resources:

—Assessment of archaeological sites at the LNG terminal.

—Native American concerns.

• Air and Noise Quality:

—Assessment of impacts of construction and operation of the LNG terminal and pipeline on local air quality.

—Assessment of noise from construction and operation of the LNG terminal and pipeline facilities.

• Reliability and Safety:

—Assessment of hazards associated with the transport, unloading, storage, and vaporization of LNG.

—Assessment of security associated with LNG ship traffic and an LNG import terminal.

• Alternatives:

—Assessment of the use of existing LNG import terminals and natural gas pipeline systems to achieve project goals.

—Evaluation of alternative sites for the LNG terminal, including offshore sites.

—Evaluation of pipeline route alternatives.

• Cumulative Impacts:

—Assessment of the effect of the proposed project when combined with other past, present, or reasonably foreseeable future actions in the project area, including other proposed LNG facilities in Corpus Christi Bay and the proposed Port of Corpus Christi La Quinta Container Terminal.

Public Participation

You can make a difference by providing us with your specific comments or concerns about the project. By becoming a commentor, your concerns will be addressed in the EIS and considered by the Commission. You should focus on the potential environmental effects of the proposal, alternatives to the proposal (including alternative terminal locations or pipeline routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 3.

• Reference Docket Nos. CP04-37-000, et al.

• Mail your comments so that they will be received in Washington, DC on or before March 26, 2004.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account, which can be created by clicking on “Login to File” and then “New User Account.” You will be asked to select the type of filing you are making. This filing is considered a “Comment on Filing.”

Public Scoping Meeting and Site Visit

In addition to or in lieu of sending written comments, we invite you to attend the public scoping meeting we will conduct in the project area. The location and time for this meeting is listed below: Wednesday, March 24, 2004, 7 p.m., Portland Community Center, 2000 Billy G. Webb Drive, Portland, Texas 78374, Telephone: (361) 777-3301.

The public scoping meeting is designed to provide state and local agencies, interested groups, affected landowners, and the general public with more detailed information and another opportunity to offer your comments on the proposed project. Interested groups and individuals are encouraged to attend the meeting and to present comments on the environmental issues they believe should be addressed in the EIS. A transcript of the meeting will be made so that your comments will be accurately recorded.

Also on Wednesday, March 24, 2004, starting at 1 p.m., we will be conducting a visit to the LNG terminal site. Anyone interested in participating in the site visit should meet at the lobby of the Days Inn, 133 U.S. Highway 181, Portland, Texas 78374. Participants must provide their own transportation. For additional information, please contact the Commission's Office of External Affairs at 1-866-208-FERC (3372).

Becoming an Intervenor

In addition to involvement in the EIS scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

If you do not want to send comments at this time but still want to remain on our mailing list, please return the Mailing List Form included in appendix 3. If you do not return this form or send in written comments, you will be taken off the mailing list.

Additional Information

Additional information about the project is available from the Commission's Office of External Affairs, at 1-866-208-FERC (3372) or on the FERC Internet Web site (http://www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659, or at FERConlinesupport@ferc.gov. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. To register for this service, go to http://www.ferc.gov/esubscribenow.htm.

Magalie R. Salas,
Secretary.

[FR Doc. E4-410 Filed 2-25-04; 8:45 am]

BILLING CODE 6717-01-P